DEPARTMENT OF AGRICULTURE

Forest Service

Helicopter Landing Tours on the Juneau Icefield EIS 2000, Tongass National Forest, Juneau Ranger District, Juneau, Alaska

AGENCY: Forest Service, USDA.

ACTION: Notice of Intent to Prepare an Environmental Impact Statement.

SUMMARY: The Department of Agriculture, Forest Service will prepare an Environmental Impact Statement (EIS) to disclose the environmental impacts of authorizing helicopter landing tours on the Icefield adjacent to Juneau, Alaska. A previous Notice Of Intent (NOI), published on February 3, identified the analysis and decision period as extending from 2000 to 2004. This is the revised NOI for the same project. The Proposed Action has been modified by changing the analysis and decision period to 2001-2005.

The proposed action is to issue special use permits (2001-2005) authorizing helicopter tour companies to land on the Juneau Icefield at specified locations and conduct tours. In addition to the regular glacier tours, this EIS will also analyze the effects of dog sled mushing tours, glacier trekking tours, and a combined fixed-wing/helicopter tour that would land at the lake at Antler Glacier. The majority of use would occur between May and September of each year. Tours would originate at private heliports and helicopter flight paths would transit a variety of private and municipal lands prior to entering the National Forest.

The proposed action would maintain the authorized helicopter landings on the Juneau Icefield at the 1999 authorized level of 19,039 landings. The Forest Service continues to seek information and comments from Federal, State, and local agencies as well as individuals and organizations who may be interested in, or affected by, the proposed action.

DATES: Comments concerning the scope of the analysis should be received in writing by March 31, 2000. A public meeting was held at the Juneau Ranger District on February 25 from 2:00 p.m. until 8:00 p.m. District staff were available at this open house to explain the project, accept comments, and answer questions. The Forrest Service is also participating with City and Borough of Juneau Tourism Advisory and Planning and Policy Committees who are addressing the noise impacts of flightseeing tours on the community, including the proposed helicopter tours, through a series of public and municipal meetings.

ADDRESSES: Written comments and suggestions concerning the analysis should be sent to Laurie Thorpe, Interdisciplinary Team Leader, Juneau Ranger District Office, 8465 Old Dairy Road, Juneau, Alaska 99801.

FOR FURTHER INFORMATION CONTACT: Laurie Thorpe, Interdisciplinary Team Leader, Juneau Ranger District Office, 8465 Old Dairy Road, Juneau, Alaska 99801, (907) 586-8800, fax number (907) 586-8808. Email may be sent to lthorpe/r10@fs.fed.us.

SUPPLEMENTARY INFORMATION: The purpose and need for the proposed action is to meet public demand for quality guided services which provide safe access to remote locations on the Juneau Icefield. Meeting this demand includes providing for visitor safety and an appropriate balance between commercial guided recreation opportunities and non-commercial, non-guided recreation opportunities without unacceptable impacts to other forest users and resources.

The District Ranger, Juneau Ranger District, is the official responsible for authorizing the special use permits that have been requested. The decision to be made is whether or not to issue special use permits for helicopter landing tours on the Icefield as requested, and if issued, the authorized locations, levels of use, and the types of activities. The District Ranger will also determine any mitigation measures that will be required. The no action and proposed action alternatives will be considered in the EIS as well as other alternatives which address significant issues and satisfy the purpose and need for the action.

Preliminary issues that have been identified include helicopter noise disturbance to residential areas, wildlife, and ground-based recreation users.

In 1992 an environmental assessment and in 1995 an environmental impact statement were prepared to analyze the effects of these tours. Comments from the EA and EIS were used to identify issues for this EIS. Comments will be accepted throughout the EIS process but, to be most useful, should be received by March 31, 2000.

The draft environmental impact statement should be available for review by April 30, 2000. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage that are not raised until after the completion of the final environmental impact statement may be waived or dismissed by the courts. City of Angoon v. Hodel, 803 F.2d. 1016, 1022 (9th Cir. 1986) and Wisconsin Heritages, Inc. v. Harris, 490 F. Supp. 1334, 1338 (E.D. Wis. 1980). Because of these court rulings, it is very important that those interested in this proposed action participate at the close of the 45 day comment period so that substantive comments and objections are made available to the Forest Service at a time when it can meaningfully consider them and respond to them in the final environmental impact statement. To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

The final EIS and Record of Decision is expected to be released in October, 2000. The Juneau District Ranger, Tongass National Forest will, as the responsible official for the EIS, make a decision regarding this proposal considering the comments, responses, and environmental consequences discussed in the Final EIS, and applicable laws, regulations, and policies. The decision and supporting reasons will be documented in the Record of Decision.

Dated: March 9, 2000.
Pete Griffin,
Juneau District Ranger.

[FR Doc. 00-7280 Filed 3-23-00; 8:45 am]

BILLING CODE 3410-11-M